DEPARTMENT OF ENERGY

Federal Energy Regulatory Commission

Combined Notice of Filings

Take notice that the Commission has received the following Natural Gas Pipeline Rate and Refund Report filings:

Filings Instituting Proceedings

Docket Numbers: RP18-923-002.

Applicants: Enable Mississippi River Transmission, L.

Description: Compliance filing MRT Compliance Filing RP18-923 to be effective 1/1/2019.

Filed Date: 12/17/18.

Accession Number: 20181217-5289.

Comments Due: 5 p.m. ET 01/04/19.

Docket Numbers: RP19-511-000.

Applicants: El Paso Natural Gas Company, L.L.C.

Description: § 4(d) Rate Filing: Negotiated Rate Agreement Update (Conoco Secondary) to be effective 1/1/2019.

Filed Date: 12/31/18.

Accession Number: 20181231-5000.

Comments Due: 5 p.m. ET 1/14/19.

Docket Numbers: RP19-512-000.

Applicants: Texas Eastern Transmission, LP.

Description: § 4(d) Rate Filing: Negotiated Rate—Wells Fargo Deal ID 951831 to be effective 1/1/2019.

Filed Date: 12/31/18.

Accession Number: 20181231-5017.

Comments Due: 5 p.m. ET 1/14/19.

Docket Numbers: RP19-513-000.

Applicants: NEXUS Gas Transmission, LLC.

Description: § 4(d) Rate Filing: Negotiated Rate—EAP Ohio releases to Chesapeake to be effective 1/1/2019.

Filed Date: 12/31/18.

Accession Number: 20181231-5038.

Comments Due: 5 p.m. ET 1/14/19.

Docket Numbers: RP19-514-000.

Applicants: NEXUS Gas Transmission, LLC.

Description: § 4(d) Rate Filing: NegRates—Chesapeake Releases contracts 960039 & 960040 to be effective 1/1/2019.

Filed Date: 12/31/18.

Accession Number: 20181231-5041.

Comments Due: 5 p.m. ET 1/14/19.

Docket Numbers: RP19-515-000.

Applicants: Columbia Gas Transmission, LLC.

Description: § 4(d) Rate Filing: Modernization II Base Rate Reset to be effective 2/1/2019.

Filed Date: 12/31/18.

Accession Number: 20181231-5069.

Comments Due: 5 p.m. ET 1/14/19.

Docket Numbers: RP19-516-000.

Applicants: NEXUS Gas Transmission, LLC.

Description: § 4(d) Rate Filing: Negotiated Rates—Chesapeake FT1 Releases to be effective 1/1/2019.

Filed Date: 12/31/18.

Accession Number: 20181231-5070.

Comments Due: 5 p.m. ET 1/14/19.

Docket Numbers: RP19-517-000.

Applicants: Columbia Gas Transmission, LLC.

Description: § 4(d) Rate Filing: CCRM 2019 to be effective 2/1/2019.

Filed Date: 12/31/18.

Accession Number: 20181231-5071.

Comments Due: 5 p.m. ET 1/14/19.

Docket Numbers: RP19-517-000.

Applicants: Columbia Gas Transmission, LLC.

Description: § 4(d) Rate Filing: CCRM 2019 to be effective 2/1/2019.

Filed Date: 12/31/18.

Accession Number: 20181231-5072.

Comments Due: 5 p.m. ET 1/14/19.

Docket Numbers: RP19-518-000.

Applicants: Millennium Pipeline Company, LLC.

Description: § 4(d) Rate Filing: Measurement Tariff Changes to be effective 2/1/2019.

Filed Date: 12/31/18.

Accession Number: 20181231-5074.

Comments Due: 5 p.m. ET 1/14/19.

Docket Numbers: RP19-519-000.

Applicants: Millennium Pipeline Company, LLC.

Description: Compliance filing 2018 Penalty Revenue Crediting Report to be effective N/A.

Filed Date: 12/31/18.

Accession Number: 20181231-5076.

Comments Due: 5 p.m. ET 1/14/19.

Docket Numbers: RP19-520-000.

Applicants: Texas Eastern Transmission, LP.

Description: § 4(d) Rate Filing: Negotiated Rate—Sempra 911550 eff 1-1-19 to be effective 1/1/2019.

Filed Date: 12/31/18.

Accession Number: 20181231-5077.

Comments Due: 5 p.m. ET 1/14/19.

Docket Numbers: RP19-521-000.

Applicants: Rockies Express Pipeline LLC.

Description: § 4(d) Rate Filing: Neg Rate 2018-12-31 E2W (9) to be effective 1/1/2019.

Filed Date: 12/31/18.

Accession Number: 20181231-5094.

Comments Due: 5 p.m. ET 1/14/19.

Docket Numbers: RP19-522-000.

Applicants: Rockies Express Pipeline LLC.

Description: § 4(d) Rate Filing: Neg Rate 2018-12-31 Encana to be effective 1/1/2019.

Filed Date: 12/31/18.

Accession Number: 20181231-5096.

Comments Due: 5 p.m. ET 1/14/19.

Docket Numbers: RP19-523-000.

Applicants: Natural Gas Pipeline Company of America.

Description: § 4(d) Rate Filing: Negotiated Rate Agreement Filing-EOG Resources, Inc. to be effective 1/1/2019.

Filed Date: 12/31/18.

Accession Number: 20181231-5097.

Comments Due: 5 p.m. ET 1/14/19.

Docket Numbers: RP19-524-000.

Applicants: Transcontinental Gas Pipe Line Company.

Description: § 4(d) Rate Filing: Negotiated Rates—Cherokee AGL—Replacement Shippers—Jan 2019 to be effective 1/1/2019.

Filed Date: 12/31/18.

Accession Number: 20181231-5099.

Comments Due: 5 p.m. ET 1/14/19.

Docket Numbers: RP19-525-000.

Applicants: NEXUS Gas Transmission, LLC.

Description: § 4(d) Rate Filing: Negotiated Rates—Columbia 860005 Releases eff 1-1-19 to be effective 1/1/2019.

Filed Date: 12/31/18.

Accession Number: 20181231-5101.

Comments Due: 5 p.m. ET 1/14/19.

Docket Numbers: RP19-526-000.

Applicants: Trailblazer Pipeline Company LLC.

Description: § 4(d) Rate Filing: Neg Rate 2018-12-28-2018 GP Trade, Citadel, Mieco & MS to be effective 1/1/2019.

Filed Date: 12/31/18.

Accession Number: 20181231-5102.

Comments Due: 5 p.m. ET 1/14/19.

Docket Numbers: RP19-527-000.

Applicants: Natural Gas Pipeline Company of America.

Description: § 4(d) Rate Filing: Negotiated Rate Agreement Filing—Lucid Energy Delaware to be effective 1/1/2019.

Filed Date: 12/31/18.

Accession Number: 20181231-5131.

Comments Due: 5 p.m. ET 1/14/19.

Docket Numbers: RP19-528-000.

Applicants: Greylock Pipeline, LLC.

Description: Compliance filing Settlement rates 2019 to be effective 3/1/2019.

Filed Date: 12/31/18.

Accession Number: 20181231-5180.

Comments Due: 5 p.m. ET 1/14/19.

Docket Numbers: RP19-529-000.

Applicants: Northern Natural Gas Company.

Description: § 4(d) Rate Filing: 20181231 Negotiated Rates to be effective 1/1/2019.

Filed Date: 12/31/18.

Accession Number: 20181231-5233.

Comments Due: 5 p.m. ET 1/14/19.

Docket Numbers: RP19-530-000.

Applicants: Gas Transmission Northwest LLC.

Description: § 4(d) Rate Filing: GTN Neg Rate Amendments Filing for 501-G to be effective 1/1/2019.

Filed Date: 12/31/18.

Accession Number: 20181231-5236.

Comments Due: 5 p.m. ET 1/14/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 2, 2019.
Nathaniel J. Davis, Sr.,
Deputy Secretary.

[FR Doc. 2019-00020 Filed 1-7-19; 8:45 am]

BILLING CODE 6717-01-P